DEPARTMENT OF DEFENSE

Department of the Army

Availability for Non-Exclusive, Exclusive, or Partially Exclusive Licensing of U.S. Patent Application Concerning Compositions and Methods for Reducing Blood and Fluid Loss From Open Wounds

AGENCY: Department of the Army, DoD.

ACTION: Notice.

SUMMARY: In accordance with 37 CFR 404.6, announcement is made of the availability for licensing of U.S. Patent Application No. 60/300,384 entitled “Compositions and Methods for Reducing Blood and Fluid Loss from Open Wounds” filed June 22, 2001. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention described herein relates to methods for reducing and/or stopping bleeding or fluid loss from open wound, denuded tissue or burned skin, comprising the step of applying to the open wound, denuded tissue or burned skin a gel-forming composition comprising at least one of the following compositions: a polyacrylic acid having the structural formula [CH2=CHCO2H]n, where n is between 10,000 and 70,000; a polyacrylic acid and a dessicated water soluble organic or inorganic base; polyacrylic acid and a dessicated poorly soluble basic salt, and a polyvinyl alcohol having the structural formula of [CH2=CHOH]n, where n is between 15,000 and 150,000. When the gel-forming composition is applied to the open wound, denuded tissue, or burned skin, its ions react therein the presence of water from blood or body fluid therein to form an aqueous gel or mucilage having sufficient viscosity and adhesiveness to cover and adhere to the open wound, denuded tissue, or burned skin so that bleeding or fluid loss is thereby reduced and/or stopped.

Luz D. Ortiz,
Army Federal Register Liaison Officer.

[FR Doc. 02-5902 Filed 3-11-02; 8:45 am]

BILLING CODE 3710-08-M